DEPARTMENT OF THE INTERIOR

Bureau of Indian Affairs

Proclaiming Certain Lands, Forest Service Lands, as an Addition to the Bay Mills Indian Reservation for the Bay Mills Indian Community of Michigan

AGENCY: Bureau of Indian Affairs, Interior.

ACTION: Notice of Reservation Proclamation.

SUMMARY: This notice informs the public that the Assistant Secretary—Indian Affairs proclaimed approximately 842 acres, more or less, to be added to the Bay Mills Indian Reservation for the Bay Mills Indian Community of Michigan.

FOR FURTHER INFORMATION CONTACT: Ben Burshia, Bureau of Indian Affairs, Division of Real Estate Services, Mail Stop 4639-MIB, 1849 C Street, NW., Washington, DC 20240, telephone (202) 208-7737.

SUPPLEMENTARY INFORMATION: This Notice is published in the exercise of authority delegated by the Secretary of the Interior to the Assistant Secretary—Indian Affairs by part 209 of the Departmental Manual.

A proclamation was issued according with Section 7 of the Act of June 18, 1934 (48 Stat. 986; 25 U.S.C. 467), for the land described below. The land was proclaimed to be an addition to the Bay Mills Indian Reservation and part of the Bay Mills Indian Community of Michigan for the exclusive use of Indians on that Reservation who are entitled to reside at the Reservation by enrollment or tribal membership.

Bay Mills Indian Community Reservation

Michigan Meridian Township of Bay Mills, Chippewa County, Michigan

South One Half (½) of Southeast One Quarter (SE ¼), Section 13, Township 47 North, Range 3 West (80 acres);

That part of the NW ¼ of SE ¼, Section 13, Township 47 North, Range 3 West, and Government Lot 2 described as, Beginning at the Southeast corner of said Government Lot 2; thence Northerly along the east line of said Government Lot 2 to the shore of Lake Superior; thence Westerly and parallel to the south line of said Government Lot 2 to the centerline of the Point Iroquois Road (FR 3150); thence southeasterly and along said centerline to the south line of Government Lot 2; thence Easterly and along said south line to the Southeast corner of Government Lot 2 and the Place of Beginning (26.0 acres);

That part of the NW ¼ of the SE ¼, Section 13, Township 47 North, Range 3 West, lying westerly of the centerline of the Point Iroquois Road (FR 3150) (37.0 acres); Northeast One Quarter (NE ¼) of Southwest One Quarter (SW ¼), Section 13, Township 47 North, Range 3 West (40 acres); Southeast One Quarter (SE ¼) of Southwest One Quarter (SW ¼), Section 13, Township 47 North, Range 3 West (40 acres);

The Southerly 500 feet of the Southeast One Quarter (SE ¼) of the Northwest One Quarter (NW ¼), Section 13, Township 47 North, Range 3 West (15 acres); Part of the SW ¼ of NE ¼, Section 13, Township 47 North, Range 3 West, described as: Beginning at a point on the west line of said SW ¼ of NE ¼ which lies 500 feet north of the Southwest corner; thence South and along said west line a distance of 500 feet to said Southwest corner of the SW ¼ of NE ¼; thence east and along the South line of said SW ¼ of NE ¼ to the Southeast corner of said SW ¼ of NE ¼; thence North and along the East line of said SW ¼ of NE ¼ a distance of 700 feet; thence southwesterly to the west line of said SW ¼ of NE ¼ and the Place of Beginning, EXCEPT that portion lying easterly of the centerline of the Point Iroquois Road (FR 3150) (14.0 acres);

Government Lot 1, Section 23, Township 47 North, Range 3 West, EXCEPT 10 acres described as follows: Beginning at the Northwest corner of said Government Lot 1; thence East a distance of 417.42 feet; thence South and parallel with the west line a distance of 1,043.55 feet; thence West and parallel with the north line a distance of 417.42 feet to the west line; thence North along the west line to the Northwest corner and the Place of Beginning (30.0 acres);

Northwest One Quarter (NW ¼) of the Southwest One Quarter (SW ¼), Section 24, Township 47 North, Range 3 West (40 acres);

Southwest One Quarter (SW ¼) of Section 25, Township 47 North, Range 3 West (160 acres);

West One Half (W ½) of the Southeast One Quarter (SE ¼), Section 25, Township 47 North, Range 3 West (80 acres);

Southeast One Quarter (SE ¼) of Southeast One Quarter (SE ¼), Section 25, Township 47 North, Range 3 West (40 acres);

Northwest One Quarter (NW ¼) of Section 36, Township 47 North, Range 3 West (160 acres); and

West One Half (W ½) of Northeast One Quarter (NE ¼), Section 36, Township 47 North, Range 3 West (80 acres).

The above-described lands contain a total of 842 acres, more or less, which are subject to all valid rights, reservations, rights-of-way, and easements of record.

This proclamation does not affect title to the land described above, nor does it affect any valid existing easements for public roads and highways, public utilities and for railroads and pipelines and any other rights-of-way or reservations of record.

Dated: August 8, 2011.
Jodi Gillette,
Deputy Assistant Secretary—Indian Affairs.

[FR Doc. 2011-21263 Filed 8-18-11; 8:45 am]

BILLING CODE 4310-W7-P